DEPARTMENT OF ENERGY

Federal Energy Regulatory Commission

[Docket No. PR02-15-000]

Ohio Valley Hub, LLC; Notice of Petition for Rate Approval

May 7, 2002.

Take notice that on April 17, 2002, Ohio Valley Hub, LLC (Ohio Valley) filed, pursuant to Section 284.224(c)(7) and Section 284.123(b)(1)(ii) of the Commission's Regulations, a petition for rate approval, requesting that the Commission approve rates on file with the Indiana Utility Regulatory Commission for firm and interruptible transportation and storage service.

Ohio Valley states that it concurrently filed for a blanket certificate pursuant to Section 284.224 of the Commission's regulations. The supporting documentation shows a state rate for firm transportation of $0.0813 per MMBtu demand charge and $0.1341 per MMBtu commodity charge. The storage rate is $0.0397 per MMBtu reservation charge and $0.0292 per MMBtu commodity charge.

Pursuant to section 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to participate in this rate proceeding must file a motion to intervene or protest with the Federal Energy Regulatory Commission, 888 First Street, NE, Washington DC 20426, in accordance with Sections 385.214 or 385.211 of the Commission's Rules and Regulations. All such motions or protests must be filed with the Secretary of the Commission on or before May 22, 2002. Protests will be considered by the Commission in determining the appropriate action to be taken, but will not serve to make protestants parties to the proceedings. Any person wishing to become a party must file a motion to intervene. This petition for rate approval is on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11845 Filed 5-10-02; 8:45 am]

BILLING CODE 6717-01-P